DEPARTMENT OF THE INTERIOR

Fish and Wildlife Service

[FWS-R8-ES-2015-N016; FF08E00000-FXES11120800000-145]

Draft Environmental Assessment and Proposed Wright Solar Park Multi-Species Habitat Conservation Plan, Merced County, California; Correction

AGENCY: Fish and Wildlife Service, Interior.

ACTION: Notice of availability; correction.

SUMMARY: We, the U.S. Fish and Wildlife Service, correct a typographical error in a recently published notice that announced the availability of the draft environmental assessment (DEA) and the draft Proposed Wright Solar Park Multi-Species Habitat Conservation Plan (HCP). Due to the inadvertent typographical error, the prior notice mischaracterized the species for which the applicant seeks a permit. The error was not in the DEA or the HCP, but only in one section of our previous Federal Register notice. If you requested documents for review, you need not request them again. If you submitted comments, you need not resubmit them.

DATES: To ensure consideration, please send your written comments by March 16, 2015.

FOR FURTHER INFORMATION CONTACT: Mike Thomas, Chief, Conservation Planning Division, or Eric Tattersall, Deputy Assistant Field Supervisor, at the address in ADDRESSES or at (916) 414-6600 (telephone). If you use a telecommunications device for the deaf, please call the Federal Information Relay Service at (800) 877-8339.

SUPPLEMENTARY INFORMATION:

Background

On January 13, 2015, we published a notice in the Federal Register (80 FR 1660) making available for public comment a draft environmental assessment (EA) under the National Environmental Policy Act of 1969, as amended (NEPA; 42 U.S.C. 4321 et seq.), in response to an application from Wright Solar Park, LLC (the applicant) for an incidental take permit (ITP) pursuant to the Endangered Species Act of 1973, as amended (16 U.S.C. 1531 et seq.; Act). The applicant prepared the draft Wright Solar Park Habitat Conservation Plan (HCP) to describe and implement a conservation plan that will minimize and mitigate environmental effects associated with the construction, operation, maintenance, and decommissioning of an up-to-200-megawatt photovoltaic power generating facility and implementation of conservation actions associated with the HCP in Merced County, California. We announced a 60-day public comment period on the permit application, including the draft EA and the proposed HCP. We requested data, comments, new information, or suggestions from the public, other concerned governmental agencies, the scientific community, Tribes, industry, or any other interested party.

For More Information

The January 13, 2015, notice provided information about Wright Solar Park HCP and our draft EA prepared under the National Environmental Policy Act of 1969 (42 U.S.C. 4321 et seq.). Please refer to that notice for further information, including details about public meetings, ways to obtain copies of the documents, and comment submission.

Correction

Due to an inadvertent typographical error, the January 13, 2015, Federal Register notice did not accurately reflect the species for which we will consider issuing incidental take. In the Next Steps section, the current notice states: “If we determine that those requirements are met, we will issue a permit to the applicant for the incidental take of desert tortoise.” This sentence is incorrect and should read: “If we determine that those requirements are met, we will issue a permit to the applicant for the incidental take of covered species.”

Please note that all the documents we made available from the date of publication of our earlier notice (January 13, 2015) are correct. If you already obtained any documents for review, you do not need to request new copies. If you already submitted comments, you need not resubmit them. The only error was a typographical error in the text of the Federal Register notice.

Dated: January 16, 2015.
Alexandra Pitts,
Deputy Regional Director, Pacific Southwest Region, Fish and Wildlife Service, Sacramento, California.

[FR Doc. 2015-01212 Filed 1-22-15; 8:45 am]

BILLING CODE 4310-55-P